DEPARTMENT OF THE INTERIOR

Bureau of Land Management

[ES-960-1910-BJ-4041] ES-51416, Group 103, Arkansas

Notice of Filing of Plat of Survey; Arkansas

The dependent resurvey of the north boundary, a portion of the east boundary, a portion of the subdivisional lines, the survey of the subdivision of certain sections, and the survey of a portion of National Park Service Tract 06-130 in section 1, Township 15 North, Range 17 West, Fifth Principal Meridian, Arkansas, will be officially filed in Eastern States, Springfield, Virginia at 7:30 a.m., on March 25, 2002.

The survey was made at the request of the National Park Service.

All inquiries or protests concerning the technical aspects of the survey must be sent to the Chief Cadastral Surveyor, Eastern States, Bureau of Land Management, 7450 Boston Boulevard, Springfield, Virginia 22153, prior to 7:30 a.m., March 25, 2002.

Copies of the plat will be made available upon request and prepayment of the appropriate fee.

Dated: January 28, 2002.
Stephen D. Douglas,
Chief Cadastral Surveyor.

[FR Doc. 02-4157 Filed 2-20-02; 8:45 am]

BILLING CODE 4310-GJ-P